DEPARTMENT OF COMMERCE

National Oceanic and Atmospheric Administration

[I.D. 092702B]

Marine Mammals; File No. 358-1585-02

AGENCY: National Marine Fisheries Service (NMFS), National Oceanic and Atmospheric Administration (NOAA), Commerce.

ACTION: Issuance of permit amendment.

SUMMARY: Notice is hereby given that Alaska Department of Fish and Game, Division of Wildlife Conservation, P.O. Box 25526, Juneau, AK, has been issued an amendment to scientific research Permit No. 358-1585-01.

ADDRESSES: The amendment and related documents are available for review upon written request or by appointment in the following office(s):

Permits, Conservation and Education Division, Office of Protected Resources, NMFS, 1315 East-West Highway, Room 13705, Silver Spring, MD 20910; phone (301)713-2289; fax (301)713-0376; and

Protected Resources Division, Alaska Region, NMFS, P.O. Box 21668, Juneau, AK 99802-1668; phone (907)586-7221; fax (907)586-7249;

FOR FURTHER INFORMATION CONTACT: Ruth Johnson or Carrie Hubard (301)713-2289.

SUPPLEMENTARY INFORMATION: On August 5, 2002, notice was published in the Federal Register (67 FR 50632) that an amendment of Permit No. 358-1585-01 issued April 12, 2002, had been requested by the above-named organization. The requested amendment has been granted under the authority of the Marine Mammal Protection Act of 1972, as amended (16 U.S.C. 1361 et seq.) and the Regulations Governing the Taking and Importing of Marine Mammals (50 CFR part 216).

The Permit was amended to allow the Holder to expand the research protocol to include implantation of subcutaneous transmitters in harbor seals. Ten seals will be used in the initial study followed by 50 seals in 2003. Reauthorization to continue research is required based on results of the initial implants and the full field season.

Dated: October 10, 2002.
Trevor Spradlin,
Acting Chief, Permits, Conservation and Education Division, Office of Protected Resources, National Marine Fisheries Service.

[FR Doc. 02-26427 Filed 10-16-02; 8:45 am]

BILLING CODE 3510-22-S